NUCLEAR REGULATORY COMMISSION

Advisory Committee on Reactor Safeguards; Meeting of the Subcommittee on Reliability and Probabilistic Risk Assessment; Notice of Meeting

The ACRS Subcommittee on Reliability and Probabilistic Risk Assessment will hold a meeting on September 21, 2006, Room T-2B1, 11545 Rockville Pike, Rockville, Maryland.

The entire meeting will be open to public attendance.

The agenda for the subject meeting shall be as follows: Thursday, September 21, 2006, 8:30 a.m. until 5 p.m.

The purpose of the meeting is to discuss draft final NUREG-1824 (EPRI 1011999), “Verification and Validation of Selected Fire Models for Nuclear Power Plant Applications.” The Subcommittee will hear presentations by and hold discussions with representatives of the NRC staff, Electric Power Research Institute (EPRI), and other interested persons regarding this matter. The Subcommittee will also be briefed by representatives of the NRC staff on draft NUREG-1852, “Demonstrating the Feasibility and Reliability of Operator Manual Actions in Response to Fire.” The Subcommittee will gather information, analyze relevant issues and facts, and formulate proposed positions and actions, as appropriate, for deliberation by the full Committee.

Members of the public desiring to provide oral statements and/or written comments should notify the Designated Federal Official, Dr. Hossein P. Nourbakhsh (telephone 301/415-5622), five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: August 31, 2006.
Michael R. Snodderly,
Branch Chief, ACRS/ACNW.

[FR Doc. E6-14864 Filed 9-7-06; 8:45 am]

BILLING CODE 7590-01-P